NATIONAL CREDIT UNION ADMINISTRATION

Sunshine Act Meeting Notice

TIME AND DATE: 10 a.m., Thursday, December 16, 2010.

PLACE: Board Room, 7th Floor, Room 7047, 1775 Duke Street, Alexandria, VA 22314-3428.

STATUS: Open.

MATTERS TO BE CONSIDERED: 1. Final Rule—Parts 701, 708a and 708b of NCUA's Rules and Regulations, Mergers and Conversions of Insured Credit Unions, Fiduciary Duties and Indemnification of Directors.

2. Final Rule—Section 701.34 of NCUA's Rules and Regulations, Low-Income Definition.

3. Proposed Rule—Section 701.34 of NCUA's Rules and Regulations, Member Survey Sample Data to Meet Low-Income Designation.

4. Proposed Rule—Part 740 of NCUA's Rules and Regulations, Accuracy of Advertising and Notice of Insured Status.

5. Proposed Rule—Part 745 of NCUA's Rules and Regulations, Share Insurance, Non-interest-bearing Transaction Accounts.

6. Tri-State Federal Credit Union's Appeal of Region II's Denial of its Field of Membership Expansion Request.

7. Central Liquidity Facility Change in Overhead Reimbursement Methodology.

8. Insurance Fund Report.

FOR FURTHER INFORMATION CONTACT: Mary Rupp, Secretary of the Board, Telephone: 703-518-6304.

Mary Rupp,
Board Secretary.

[FR Doc. 2010-31391 Filed 12-9-10; 4:15 pm]

BILLING CODE P